DEPARTMENT OF ENERGY

Federal Energy Regulatory Commission

[Docket No. CP03-99-000]

Norteno Pipeline Company and OkTex Pipeline Company; Notice of Application

April 24, 2003.

Take notice that on April 15, 2003, Norteno Pipeline Company (Norteno) and OkTex Pipeline Company (OkTex), both located at 100 West Fifth Street, Tulsa, Oklahoma 74103, filed with the Federal Energy Regulatory Commission (Commission) in Docket No. CP03-99-000, a joint application pursuant to Sections 153.15 through 153.17 of the Commission's regulations and Executive Order No. 10485, as amended by Executive Order No. 12038, for authorization permitting OkTex to succeed to Norteno's Presidential Permit, as more fully described in the application. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866)208-3676, or for TTY, contact (202)502-8659.

On March 31, 2003, Applicants filed a related application, in Docket No. CP03-76-000 requesting authorization for Norteno to abandon and OkTex to acquire Norteno's interstate facilities including three pipelines that cross the United States/Mexico International Boundary line at El Paso Texas (Del Norte facilities). Norteno and OkTex state that they are both wholly owned subsidiaries of ONEOK, Inc. and the transfer of facilities is said to be in the nature of a corporate restructuring. Accordingly, Applicants herein seek succession by OkTex to Norteno's Presidential Permit. Applicants state that they do not seek any change in the terms and conditions of Norteno's existing Presidential Permit apart from the succession of OkTex as the holder of that authority.

On April 15, 2003, Applicants filed another related application in Docket No. CP03-100-000 to allow OkTex to also succeed to Norteno's Section 3 authority to operate the transferred border crossing facilities for the import and export of natural gas.

Any questions regarding this application should be directed to Vivian C. Hale, Gabel & Gotwals, 1100 ONEOK Plaza, 100 West Fifth Street, Tulsa, Oklahoma 74103-4217, or call (918)595-4822 or FAX (918)595-4990.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the internet in lieu of paper; see 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued.

Comment Date: May 15, 2003.

Magalie R. Salas,
Secretary.

[FR Doc. 03-10621 Filed 4-29-03; 8:45 am]

BILLING CODE 6717-01-P